OFFICE OF PERSONNEL MANAGEMENT

Privacy Act of 1974; System of Records

AGENCY: Office of Personnel Management.

ACTION: Notice of modified systems of records.

SUMMARY: In accordance with the Privacy Act of 1974, the Office of Personnel Management (OPM) is modifying the systems of records listed in this notice to incorporate two routine uses related to breach of personally identifiable information (PII) pursuant to the Office of Management and Budget's Memorandum 17-12. The first routine use deals with the breach of an agency's own records, and the second addresses the disclosure of agency records to assist other agencies in their efforts to respond to a breach of their own records. The new routine use that addresses breaches of an agency's own records replaces the one OPM previously published November 30, 2015 at 80 FR 74815.

DATES: Please submit comments on or before March 4, 2022. These new routine uses are effective March 9, 2022.

ADDRESSES: You may submit written comments by one of the following methods:

Federal Rulemaking Portal: http://www.regulations.gov

All submissions received must include the agency name and docket number for this Federal Register document. The general policy for comments and other submissions from members of the public is to make these submissions available for public viewing on the internet at http://www.regulations.gov, as they are received, without change, including any personal identifiers or contact information. Email: privacy@opm.gov.

FOR FURTHER INFORMATION CONTACT: Marc Flaster, Senior Advisor to the Chief Privacy Officer, 202-606-2115.

SUPPLEMENTARY INFORMATION: On November 30, 2015, the Office of Personnel Management (OPM) published a routine use for all of its systems of records to permit disclosing information when necessary to respond to breaches of OPM's own records. Subsequently, on January 3, 2017, the Office of Management and Budget published Memorandum 17-12, Preparing for and Responding to a Breach of Personally Identifiable Information, which established two model routine uses, one on disclosure of information related to breaches of an agency's own records, similar to what OPM published in 2015, and the second concerning the disclosure of agency records to assist other agencies in their efforts to respond to a breach. The latter would facilitate providing agencies with information to locate and contact individuals potentially affected by a breach, or provide information related to the agency's programs. OPM is now modifying all of the systems of records identified in this Notice to include the two routine uses set forth in OMB M 17-12 and rescinding the routine use published in 2015.

Office of Personnel Management.
Alexys Stanley,
Regulatory Affairs Analyst.

SYSTEM NAME AND NUMBER:

The systems of records to be modified by including the two new routine uses described in this Notice are set forth below. An asterisk (*) designates the last publication of the complete document in the Federal Register. Any history prior to the last publication in the Federal Register is omitted for clarity.

SORN No. | SORN Name | Federal Register cites.
OPM CENTRAL-1 | Civil Service Retirement and Insurance Records | 73 FR 15013.* 80 FR 74815.
OPM CENTRAL-2 | Complaints and Inquiries Records | 60 FR 63075. 80 FR 74815.
OPM CENTRAL-4 | Inspector General Investigations Case File | 60 FR 63075. 80 FR 74815.
OPM CENTRAL-5 | Intergovernmental Personnel Act Assignment Records | 64 FR 60249.*
OPM CENTRAL-6 | Administrative Law Judge Application Records | 60 FR 63075. 80 FR 74815.
OPM CENTRAL-7 | Litigation and Claims Records | 60 FR 63075. 80 FR 74815.
OPM CENTRAL-8 | Privacy Act/Freedom of Information Act (PA/FOIA) Case Records | 64 FR 53424.* 80 FR 74815.
OPM CENTRAL-9 | Personnel Investigations Records | 75 FR 28307.* 80 FR 74815.
OPM CENTRAL-10 | Federal Executive Institute Program Participants Records | 64 FR 59221.* 80 FR 74815.
OPM CENTRAL-11 | Presidential Management Fellows (PMF) Program Records | 77 FR 61791.* 80 FR 74815.
OPM CENTRAL-13 | Executive Personnel Records | 64 FR 60247.* 80 FR 74815.
OPM CENTRAL-14 | Debarment or Suspension Records for Federal Employee Health Benefits | 60 FR 63075.* 80 FR 74815.
OPM CENTRAL-15 | Health Claims Data Warehouse | 78 FR 23313.* 80 FR 74815.
OPM CENTRAL-16 | Health Claims Disputes External Review Services | 76 FR 70512.* 80 FR 74815.
OPM CENTRAL-18 | Federal Employees Health Benefits Program Claims Data Warehouse | 76 FR 35052. 80 FR 74815.
OPM CENTRAL-19 | External Review Records for Multi-State Plan (MSP) Program | 78 FR 65011. 80 FR 74815.
OPM CENTRAL-23 | FEHB Program Enrollment | 86 FR 6377.
OPM CENTRAL-X | Federal Competency Assessment Tool | 72 FR 60396. 80 FR 74815.
OPM GOVT-1 | General Personnel Records | 77 FR 73694.* 80 FR 74815.
OPM GOVT-2 | Employee Performance File System Records | 71 FR 35342.* 80 FR 74815.
OPM GOVT-3 | Records of Adverse Actions, Performance Based Reductions In Grade and Removal Actions, and Terminations of Probationers | 71 FR 35342.* 80 FR 74815.
OPM GOVT-5 | Recruiting, Examining and Placement Records | 79 FR 16834.* 80 FR 74815.
OPM GOVT-6 | Personnel Research and Test Validation Records | 71 FR 35342.* 80 FR 74815.
OPM GOVT-7 | Applicant Race, Sex, National Origin, and Disability Status Records | 71 FR 35342.* 80 FR 74815.
OPM GOVT-9 | File on Position Classification Appeals, Job Grading Appeals, Retained Grade or Pay Appeals, Fair Labor Standard Act (FLSA) Claims and Complaints, Federal Civilian Employee Compensation and Leave Claims, and Settlement of Accounts for Deceased Civilian Officers and Employees | 78 FR 60331.* 80 FR 74815.
OPM GOVT-10 | Employee Medical File Systems Records | 75 FR 35099.* 80 FR 74815.
OPM Internal-1 | Defense Mobilization Emergency Cadre Records | 64 FR 72705.* 80 FR 74815.
OPM Internal-2 | Negotiated Grievance Procedure Records | 60 FR 63075. 80 FR 74815.
OPM Internal-3 | Security Officer Control Files | 65 FR 14635.* 80 FR 74815.
OPM Internal-4 | Health Program Records | 64 FR 51807.* 80 FR 74815.
OPM Internal-5 | Pay, Leave, and Travel Records | 64 FR 61949.* 80 FR 74815.
OPM Internal-6 | Appeal and Administrative Review Records | 60 FR 63075. 80 FR 74815.
OPM Internal-7 | Complaints and Inquiries Records | 60 FR 63075. 80 FR 74815.
OPM Internal-8 | Employee Counseling Services Program Records | 60 FR 63075. 80 FR 74815.
OPM Internal-9 | Employee Locator Card Files (PDF file) | 64 FR 51807.* 60 FR 63075. 80 FR 74815.
OPM Internal-10 | Motor Vehicle Operator and Accident Report Records | 60 FR 63075. 80 FR 74815.
OPM Internal-11 | Administrative Grievance Records | 60 FR 63075. 80 FR 74815.
OPM Internal-12 | Telephone Call Detail Records | 64 FR 54934. 80 FR 74815.
OPM Internal-13 | Parking Program Records | 65 FR 540. 80 FR 74815.
OPM Internal-14 | Photo Identification and Visitor Access Control Records | 64 FR 73108. 80 FR 74815.
OPM Internal-15 | OPM Child Care Tuition Assistance Records | 65 FR 30643. 80 FR 74815.
OPM Internal-16 | Adjudications Officer Control Files | 79 FR 30202.* 66 FR 42568. 80 FR 74815.
OPM Internal-17 | Web-Enabled Voting Rights System (WEVRS) | 71 FR 38190. 80 FR 74815.
OPM Internal-18 | CyberCorps®: Scholarship For Service (SFS) | 79 FR 42064.* 74 FR 42336. 80 FR 74815.
OPM Internal-19 | Investigation Training Records | 79 FR 8515. 80 FR 74815.
OPM Internal-20 | Integrity Assurance Officer Control Files | 80 FR 2447. 80 FR 74815.
OPM Internal-21 | Correspondence Management for the U.S. Office of Personnel Management | 80 FR 72455.*

SECURITY CLASSIFICATION:

Unclassified.

SYSTEM LOCATION:

The appropriate OPM program, as identified in each notice, governs each respective system of records.

SYSTEM MANAGERS:

The applicable program executive is identified in each notice.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in the systems identified above may be disclosed outside OPM as a routine use pursuant to 5 U.S.C. 552a(b)(3) as follows:

• To appropriate agencies, entities and persons when (1) OPM suspects or has confirmed that there has been a breach of the system of records, (2) OPM has determined that as a result of the suspected or confirmed breach there is a risk of harm to individuals, OPM (including its information systems, programs and operations), the Federal Government, or national security; and (3) the disclosure made to such agencies, entities, and persons is reasonably necessary to assist in connection with OPM's efforts to respond to the suspected or confirmed breach or to prevent, minimize, or remedy such harm.

• To another Federal agency or Federal entity, when OPM determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

HISTORY:

See System Name and Number above.

[FR Doc. 2022-02057 Filed 2-1-22; 8:45 am]

BILLING CODE 6325-38-P